DEPARTMENT OF COMMERCE

International Trade Administration

[C-570-980]

Crystalline Silicon Photovoltaic Cells, Whether or Not Assembled Into Modules, From the People's Republic of China: Preliminary Results of Countervailing Duty Administrative Review, and Rescission in Part; 2021

AGENCY: Enforcement and Compliance, International Trade Administration, Department of Commerce.

SUMMARY: The U.S. Department of Commerce (Commerce) preliminarily determines that countervailable subsidies were provided to producers and exporters of crystalline silicon photovoltaic cells, whether or not assembled into modules, (solar cells) from the People's Republic of China (China) during the period of review (POR), January 1, 2021, through December 31, 2021. We are rescinding this review with respect to 65 companies. Interested parties are invited to comment on these preliminary results.

DATES: Applicable December 22, 2023.

FOR FURTHER INFORMATION CONTACT: Jose Rivera or Peter Shaw, AD/CVD Operations, Office VII, Enforcement and Compliance, International Trade Administration, U.S. Department of Commerce, 1401 Constitution Avenue NW, Washington, DC 20230; telephone: (202) 482-0842 or (202) 482-0697, respectively.

SUPPLEMENTARY INFORMATION:

Background

On February 2, 2023, Commerce initiated this administrative review of the countervailing duty (CVD) order on solar cells from China with respect to 86 companies.¹ Chint Solar (Zhejiang) Co., Ltd. (Chint Solar) and High Hope Zhongtian Corporation (High Hope Zhongtian) are the mandatory respondents. On August 1, 2023, Commerce extended the deadline for completion of these preliminary results until no later than December 15, 2023.² On December 14, 2023, Commerce further extended the deadline until no later than December 18, 2023.³

¹ See Initiation of Antidumping and Countervailing Duty Administrative Reviews, 88 FR 7060 (February 2, 2023).

² See Memorandum, “Extension of the Deadline for Preliminary Results of Countervailing Duty Administrative Review,” dated August 1, 2023.

³ See Memorandum, “Second Extension of the Deadline for Preliminary Results of Countervailing Duty Administrative Review,” dated December 14, 2023.

For a complete description of the events that followed the initiation of this review, see the Preliminary Decision Memorandum.⁴ A list of topics discussed in the Preliminary Decision Memorandum is included as Appendix I to this notice. The Preliminary Decision Memorandum is a public document and is on file electronically via Enforcement and Compliance's Antidumping and Countervailing Duty Centralized Electronic System (ACCESS). ACCESS is available to registered users at https://access.trade.gov. In addition, a complete version of the Preliminary Decision Memorandum can be accessed directly at https://access.trade/gov/public/FRNoticesListLayout.aspx.

⁴ See Memorandum, “Decision Memorandum for the Preliminary Results of the Countervailing Duty Administrative Review, and Rescission in Part: Crystalline Silicon Photovoltaic Cells, Whether or Not Assembled into Modules, from the People's Republic of China; 2021,” dated concurrently with, and hereby adopted by, this notice (Preliminary Decision Memorandum).

Scope of the Order

The products covered by this order are crystalline silicon photovoltaic cells, and modules, laminates, and panels, consisting of crystalline silicon photovoltaic cells, whether or not partially or fully assembled into other products, including, but not limited to, modules, laminates, panels, and building integrated materials. For a complete description of the scope of this order, see the Preliminary Decision Memorandum.

Rescission of Administrative Review, in Part

Pursuant to 19 CFR 351.213(d)(1), Commerce will rescind an administrative review, in whole or in part, if the parties that requested a review withdraw the request within 90 days of the date of publication of the notice of initiation. Commerce received a timely-filed withdrawal of review request with respect to Shenzhen Glory Industries Co., Ltd (Glory).⁵ Commerce also received a timely-filed withdrawal of review request with respect to: (1) Canadian Solar Manufacturing, Inc.; (2) New East Solar Energy Cambodia Co., Ltd.; (3) Trina Solar (Hefei) Science and Technology Co., Ltd.; (4) Trina Solar (Singapore) Science and Technology Pte. Ltd.; (5) Trina Solar Energy Development Company Limited; (6) Vina Cell Technology Company Limited; and (7) Vina Solar Technology Company Limited.⁶ Pursuant to 19 CFR 351.213(d)(3), Commerce will rescind an administrative review when there are no reviewable suspended entries. Based on our analysis of U.S. Customs and Border Protection (CBP) information, we preliminarily determine that 57 companies had no entries of subject merchandise during the POR. On November 17, 2023, we notified parties that we intended to rescind this administrative review with respect to the 65 companies for which all requests for review have been withdrawn or have no reviewable suspended entries.⁷ No parties commented on the notification of intent to rescind the review, in part. We are, therefore, rescinding the administrative review of these companies. For additional information regarding this determination, see the Preliminary Decision Memorandum. For a complete list of the companies, see Appendix III to this notice.

⁵ See Glory Industries Co., Ltd., “Withdrawal of Request for Administrative Review,” dated March 30, 2023.

⁶ See Auxin's Letter, “Withdrawal of Request for Administrative Review,” dated May 3, 2023.

⁷ See Memorandum, “Intent to Rescind Review,” dated November 17, 2023.

Methodology

Commerce is conducting this administrative review in accordance with section 751(a)(1)(A) of the Tariff Act of 1930, as amended (the Act). For each of the subsidy programs preliminarily found to be countervailable, we preliminarily determine that there is a subsidy, i.e., a financial contribution from an authority that gives rise to a benefit to the recipient and that the subsidy is specific.⁸ For a full description of the methodology underlying our preliminary conclusions, including our reliance, in part, on facts available with adverse inferences pursuant to sections 776(a) and (b) of the Act, see the Preliminary Decision Memorandum.

⁸ See sections 771(5)(B) and (D) of the Act regarding financial contribution; section 771(5)(E) of the Act regarding benefit; and section 771(5A) of the Act regarding specificity.

Preliminary Rate for Non-Selected Companies Under Review

There are 14 companies for which a review was requested, which had reviewable entries, and which were not selected as mandatory respondents or found to be cross-owned with a mandatory respondent. See Appendix II. For these companies, because the rates calculated for the mandatory respondents, Chint Solar and High Hope Zhongtian, were above de minimis and not based entirely on facts available, we are applying to the non-selected companies a rate using a weighted average of the individual subsidy rates calculated for Chint Solar and High Hope Zhongtian. This methodology is consistent with our practice for establishing an all-others rate pursuant to section 705(c)(5)(A) of the Act.⁹

⁹ See Truck and Bus Tires from the People's Republic of China: Preliminary Results of Countervailing Duty Administrative Review, and Rescission of Review, in Part; 2019, 86 FR 33644 (June 25, 2021).

Preliminary Results of Review

Commerce preliminarily determines the net countervailable subsidy rates for the period January 1, 2021, through December 31, 2021, are as follows:

Company | Subsidy rate (percent)
Chint Solar (Zhejiang) Co., Ltd. (Chint Solar) ¹⁰ | 26.16
High Hope Zhongtian Corporation (High Hope Zhongtian) ¹¹ | 3.46
Non-Selected Companies Under Review ¹² | 8.47

Assessment Rates

¹⁰ This rate applies to: Chint Solar (Zhejiang) Co., Ltd. and its cross-owned companies: Chint New Energy Technology Co., Ltd.; Haining Chint Solar Energy Technology Co., Ltd.; Chint New Energy Technology (Yancheng) Co., Ltd.; Chint Solar (Yancheng) Co., Ltd.; Jiuquan Ching New Energy Technology Co., Ltd.; Chint Group Co., Ltd.; Zhejiang Chint Electrics Co., Ltd.; Zhejiang Chint New Energy Development Co., Ltd.; Chint Solar (Jiuquan) Co., Ltd.; and Chint Solar (Shanghai) Co., Ltd.

¹¹ This rate applies to: High Hope Zhongtian Corporation and its cross-owned companies: Jiangsu Highhope International Group Corporation and Jiangsu Suhui Asset Management Co., Ltd.

¹² See Appendix II of this notice for a list of all companies that remain under review but were not selected for individual examination and to which Commerce has preliminarily assigned the non-selected company rate.

In accordance with section 751(a)(2)(C) of the Act and 19 CFR 351.221(b)(4)(i), we preliminarily determined subsidy rates in the amounts shown above for the producer/exporters shown above. Upon completion of the administrative review, consistent with section 751(a)(1) of the Act and 19 CFR 351.212(b)(2), Commerce shall determine, and CBP shall assess, countervailing duties on all appropriate entries covered by this review.

For the companies for which this review is rescinded with these preliminary results, we will instruct CBP to assess countervailing duties on all appropriate entries at a rate equal to the cash deposit of estimated countervailing duties required at the time of entry, or withdrawal from warehouse, for consumption, during the period January 1, 2021, through December 31, 2021, in accordance with 19 CFR 351.212(c)(l)(i). For the companies remaining in the review, we intend to issue assessment instructions to CBP no earlier than 35 days after the date of publication of the final results of this review in the Federal Register.

If a timely summons is filed at the U.S. Court of International Trade, the assessment instructions will direct CBP not to liquidate relevant entries until the time for parties to file a request for a statutory injunction has expired (i.e., within 90 days of publication).

Cash Deposit Rates

Pursuant to section 751(a)(1) of the Act, Commerce intends to instruct CBP to collect cash deposits in the amounts indicated for the producers/exporters listed above with regard to shipments of subject merchandise entered or withdrawn from warehouse, for consumption on or after the date of publication of the final results of this review. For all non-reviewed firms, we will instruct CBP to continue to collect cash deposits of estimated countervailing duties at the most-recent company-specific or all-others rate applicable to the company, as appropriate. These cash deposit requirements, when imposed, shall remain in effect until further notice.

Disclosure and Public Comment

We will disclose to parties to this proceeding the calculations performed in reaching the preliminary results within five days of the date of publication of these preliminary results.¹³

¹³ See 19 CFR 351.224(b).

Case briefs or other written comments may be submitted to the Assistant Secretary for Enforcement and Compliance. A timeline for the submission of case briefs and written comments will be provided to interested parties at a later date.¹⁴

¹⁴ See 19 CFR 351.309(c).

Rebuttal briefs, limited to issues raised in the case briefs, may be filed not later than five days after the date for filing case briefs.¹⁵ Interested parties who submit case briefs or rebuttal briefs in this proceeding must submit: (1) a table of contents listing each issue; and (2) a table of authorities.¹⁶ As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁷ Further, we request that interested parties limit their executive summary of each issue to no more than 450 words, not including citations. We intend to use the executive summaries as the basis of the comment summaries included in the issues and decision memorandum that will accompany the final results of this review. We request that interested parties include footnotes for relevant citations in the executive summary of each issue. Note that Commerce has amended certain of its requirements pertaining to the service of documents in 19 CFR 351.303(f).¹⁸

¹⁵ See 19 CFR 351.309(d); see also Administrative Protective Order, Service, and Other Procedures in Antidumping and Countervailing Duty Proceedings, 88 FR 67069, 67077 (September 29, 2023).

¹⁶ See 19 351.309(c)(2) and (d)(2).

¹⁷ We use the term “issue” here to describe an argument that Commerce would normally address in a comment of the Issues and Decision Memorandum.

¹⁸ See Administrative Protective Order, Service, and Other Procedures in Antidumping and Countervailing Duty Proceedings; Final Rule, 88 FR 67069 (September 29, 2023).

Pursuant to 19 CFR 351.310(c), interested parties who wish to request a hearing must submit a written request to the Assistant Secretary for Enforcement and Compliance, U.S. Department of Commerce within 30 days of the publication date of this notice. Requests should contain: (1) the party's name, address, and telephone number; (2) the number of participants; and (3) a list of the issues to be discussed. Issues raised in the hearing will be limited to those raised in the respective case and rebuttal briefs.¹⁹ Parties are reminded that all briefs and hearing requests must be filed electronically using ACCESS and received successfully in their entirety by 5:00 p.m. Eastern Time on the due date.

¹⁹ See 19 CFR 351.310.

Final Results of Review

Unless extended, we intend to issue the final results of this administrative review, which will include the results of our analysis of the issues raised in the case briefs, within 120 days of publication of these preliminary results in the Federal Register, pursuant to section 751(a)(3)(A) of the Act and 19 CFR 351.213(h)(1).

Notification to Interested Parties

These preliminary results and notice are issued and published in accordance with sections 751(a)(l) and 777(i)(l) of the Act, and 19 CFR 351.213 and 19 CFR 351.221(b)(4).

Dated: December 18, 2023.
James Maeder,
Deputy Assistant Secretary for Antidumping and Countervailing Duty Operations.

Appendix I

List of Topics Discussed in the Preliminary Decision Memorandum

I. Summary

II. Background

III. Period of Review

IV. Rescission of Review, In Part

V. Rate for Non-Selected Companies Under Review

VI. Scope of the Order

VII. Diversification of China's Economy

VIII. Subsidies Valuation

IX. Interest Rate Benchmarks, Discount Rates, and Benchmarks for Measuring Adequacy of Remuneration

X. Use of Facts Otherwise Available and Application of Adverse Inferences

XI. Analysis of Programs

XII. Recommendation

Appendix II

Non-Selected Companies Under Review

1. Anji Dasol Solar Energy Science & Technology Co., Ltd.

2. Baoding Jiasheng Photovoltaic Technology Co. Ltd.

3. BYD (Shangluo) Industrial Co., Ltd.; BYD H.K. CO., Ltd.; Shanghai BYD Co., Ltd.

4. Chint Solar (Hong Kong) Company Limited.

5. Baotou JA Solar Technology Co., Ltd.; Beijing JA Solar PV Technology Co., Ltd.; Beijing Jinfeng Investment Co., Ltd.; Donghai JA Solar Technology Co., Ltd.; Donghai JingAo Solar Energy Science and Technology Co., Ltd.; Hebei Jingle Optoelectronic Technology Co., Ltd.; Hebei Jinglong New Materials Technology Group Co., Ltd.; Hebei Jinglong Sun Equipment Co. Ltd.; Hebei Ningjin Songgong Semiconductor Co., Ltd.; Hebei Ningtong Electronic Materials Co., Ltd.; Hebei Ningtong Electronic Materials Co., Ltd.; Hebei Yujing Electronic Science and Technology Co., Ltd.; Hefei JA Solar Technology Co., Ltd.; JA (Hefei) Renewable Energy Co., Ltd; JA PV Technology Co., Ltd.; JA Solar (Xingtai) Co., Ltd.; JA Solar Investment China Co., Ltd; JA Solar Technology Co., Ltd.; JA Solar Technology Yangzhou Co., Ltd.; Jing Hai Yang Semiconductor Material (Donghai) Co., Ltd.; JingAo Solar Co., Ltd.; Jinglong Industry and Commerce Group Co., Ltd.; Jinglong Technology Holdings Co., Ltd.; Jingwei Electronic Materials Co., Ltd.; Ningjin County Jing Tai Fu Technology Co., Ltd.; Ningjin County Jingyuan New Energy Investment Co., Ltd.; Ningjin Guiguang Electronics Investment Co., Ltd.; Ningjin Jinglong PV Industry Investment Co., Ltd.; Ningjin Jingxing Electronic Material Co., Ltd.; Ningjin Longxin Investment Co., Ltd.; Ningjin Saimei Ganglong Electronic Materials Co., Ltd.; Ningjin Songgong Electronic Materials Co., Ltd.; Shanghai JA Solar Technology Co., Ltd.; Solar Silicon Peak Electronic Science and Technology Co., Ltd.; Solar Silicon Valley Electronic Science and Technology Co., Ltd.; Taicang Juren PV Material Co., Ltd.; Xingtai Jinglong Electronic Material Co., Ltd.; Xingtai Jinglong New Energy Co., Ltd.; Xingtai Jinglong PV Materials Co., Ltd.

6. Jinko Solar Co., Ltd.; Jinko Solar Import and Export Co., Ltd.; Jiangxi Jinko Photovoltaic Materials Co., Ltd.; Jinko Solar Technology (Haining) Co., Ltd.; JinkoSolar (Chuzhou) Co., Ltd.; JinkoSolar (Shangrao) Co., Ltd.; JinkoSolar (Sichuan) Co., Ltd.; JinkoSolar (Yiwu) Co., Ltd.; Ruixu Industrial Co., Ltd.; Xinjiang Jinko Solar Co., Ltd.; Yuhuan Jinko Solar Co., Ltd.; Zhejiang Jinko Solar Co., Ltd.; Jinko Solar (Shanghai) Management Co., Ltd.

7. LONGi Solar Technology Co., Ltd.

8. Shanghai Nimble Co., Ltd.

9. Shenzhen Sungold Solar Co., Ltd.

10. Toenergy Technology Hangzhou Co., Ltd.

11. Trina Solar Science & Technology (Thailand) Ltd.; Changzhou Trina PV Ribbon Materials Co., Ltd.; Changzhou Trina Solar Energy Co., Ltd. (a.k.a. Trina Solar Co., Ltd.); Changzhou Trina Solar Yabang Energy Co., Ltd.; Hubei Trina Solar Energy Co., Ltd.; Trina Solar (Changzhou) Science and Technology Co., Ltd.; Trina Solar Co., Ltd.; Turpan Trina Solar Energy Co., Ltd.; Yancheng Trina Solar Energy Technology Co., Ltd.

12. Wuxi Suntech Power Co., Ltd.

13. Yancheng Trina Solar Energy Technology Co., Ltd.

14. Yingli Energy (China) Co., Ltd.

Appendix III

Companies To Be Rescinded

1. Astronergy Co., Ltd.

2. Astronergy Solar

3. Baoding Tianwei Yingli New Energy Resources Co., Ltd.

4. Beijing Tianneng Yingli New Energy Resources Co., Ltd.

5. Boviet Solar Technology Co., Ltd.

6. Canadian Solar International Limited

7. Canadian Solar Manufacturing, Inc.

8. Canadian Solar Inc.; Canadian Solar Manufacturing (Changshu) Inc.; Canadian Solar Manufacturing (Luoyang) Inc.; Changshu Tegu New Materials Technology Co., Ltd.; Changshu Tlian Co., Ltd.; CSI Cells Co., Ltd.; CSI New Energy Holding Co., Ltd.; CSI Solar Manufacture Inc. (a.k.a. CSI New Energy Holding Co., Ltd.); CSI Solar Power (China) Inc.; CSI Solar Power Group Co., Ltd. (f.k.a. CSI Solar Power (China) Inc.); CSI Solar Technologies Inc.; CSI Solartronics (Changshu) Co., Ltd. CSI-GCL Solar Manufacturing (Yancheng) Co., Ltd.; CSI Manufacturing (FuNing) Co., Ltd. (f.k.a. CSI-GCL Solar Manufacturing (YanCheng) Co., Ltd.); Suzhou Sanysolar Materials Technology Co., Ltd.

9. Changzhou Trina Hezhong Photoelectric Co., Ltd.

10. CSI Modules (Dafeng) Co., Ltd.

11. CSI Solar Power (China) Inc.

12. DelSolar (Wujiang) Ltd.

13. DelSolar Co., Ltd.

14. De-Tech Trading Limited HK

15. Dongguan Sunworth Solar Energy Co., Ltd.

16. Eoplly New Energy Technology Co., Ltd.

17. ERA Solar Co., Ltd.

18. ET Solar Energy Limited

19. Fuzhou Sunmodo New Energy Equipment Co., Ltd.

20. GCL System Integration Technology Co., Ltd.

21. Hainan Yingli New Energy Resources Co., Ltd.

22. Haining Chint Solar Energy Technology Co., Ltd.;

23. Hangzhou Sunny Energy Science and Technology Co., Ltd.

24. Hengdian Group DMEGC Magnetics Co., Ltd.

25. Hengshui Yingli New Energy Resources Co., Ltd.

26. Hongkong Hello Tech Energy Co., Ltd.

27. JA Solar, Co., Ltd.

28. JA Technology Yangzhou Co., Ltd.

29. Jiangsu Jinko Tiansheng Solar Co., Ltd.

30. Jinko Solar International Limited

31. Light Way Green Energy Co., Ltd.

32. Lixian Yingli New Energy Resources Co., Ltd.

33. Longi (HK) Trading Ltd.

34. Luoyang Suntech Power Co., Ltd.

35. New East Solar Energy Cambodia Co., Ltd.

36. Nice Sun PV Co., Ltd.

37. Ningbo ETDZ Holdings, Ltd.

38. ReneSola Jiangsu Ltd.

39. Renesola Zhejiang Ltd.

40. Changzhou Jintan Ningsheng Electricity Power Co., Ltd.; Changzhou Sveck New Material Technology Co., Ltd.; Changzhou Sveck Photovoltaic New Material Co., Ltd. (including Changzhou Sveck Photovoltaic New Material Co., Ltd. Jintan Danfeng Road Branch); Jiangsu Sveck New Material Co., Ltd.; JiuJiang Shengchao Xinye Technology Co., Ltd. (including JiuJang Shengshao Xinye Technology Co., Ltd. Ruichang Branch); Jiujiang Shengchao Xinye Trade Co., Ltd.; Ninghai Risen Energy Power Development Co., Ltd.; Risen (Changzhou) Import and Export Co., Ltd.; Risen (Luoyang) New Energy Co., Ltd.; Risen (Ningbo) Electric Power Development Co., Ltd.; Risen (Wuhai) New Energy Co., Ltd.; Risen Energy (Changzhou) Co., Ltd.; Risen Energy (HongKong) Co., Ltd.; Risen Energy (Ningbo) Co., Ltd.; Risen Energy (Yiwu) Co., Ltd.; Risen Energy Co., Ltd.; Zhejiang Boxin Investment Co., Ltd.; Zhejiang Twinsel Electronic Technology Co., Ltd.

41. Shenzhen Glory Industries Co., Ltd.

42. Shenzhen Topray Solar Co., Ltd.

43. Shenzhen Yingli New Energy Resources Co., Ltd.

44. Sumec Hardware & Tools Co., Ltd.

45. Sunpreme Solar Technology (Jiaxing) Co., Ltd.

46. Suntech Power Co., Ltd.

47. Suntimes Technology Co., Limited

48. Systemes Versilis, Inc.

49. Taimax Technologies Inc.

50. Taizhou BD Trade Co., Ltd.

51. Talesun Energy

52. Talesun Solar

53. tenKsolar (Shanghai) Co., Ltd.

54. Tianjin Yingli New Energy Resources Co., Ltd.

55. Trina (Hefei) Science and Technology Co., Ltd.

56. Trina Solar (Hefei) Science and Technology Co., Ltd.

57. Trina Solar (Singapore) Science and Technology Pte. Ltd.

58. Vina Cell Technology Company Limited

59. Vina Solar Technology Company Limited

60. Wuxi Tianran Photovoltaic Co., Ltd.

61. Yingli Green Energy International Trading Company Limited

62. Yuhuan Jinko Solar Co., Ltd.

63. Zhejiang ERA Solar Technology Co., Ltd.

64. Zhejiang Jinko Solar Co., Ltd.

65. Zhejiang Sunflower Light Energy Science & Technology Limited Liability Company

[FR Doc. 2023-28162 Filed 12-21-23; 8:45 am]

BILLING CODE 3510-DS-P